DEPARTMENT OF COMMERCE

International Trade Administration

Agency Information Collection Activities; Submission to the Office of Management and Budget (OMB) for Review and Approval; Comment Request; Domestic and International Client Export Services and Customized Forms Revision

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 16, 2025, during a 60-day comment period. This notice allows for an additional 30 days for public comments.

Agency: International Trade Administration, Commerce.

Title: Domestic and International Clients Export Services & Customized Forms.

OMB Control Number: 0625-0143.

Form Number(s): None.

Type of Request: Regular submission with revision to a currently approved collection.

Number of Respondents: 100,020.

Average Hours per Response: 10 minutes.

Burden Hours: 34,133 (annual).

Needs and Uses: The International Trade Administration's (ITA) is mandated by Congress to broaden and deepen the U.S. exporter base and to attract inward foreign direct investment. It accomplishes this by providing counseling, programs and services to help U.S. organizations export and conduct business in overseas markets. This information collection package enables ITA to provide appropriate global trade services to U.S. businesses and international buyers.

ITA offers a variety of services to enable clients to begin exporting and global trade or to expand existing export and global trade efforts. Clients may learn about available services from business related entities such as the National Association of Manufacturers, Federal Express, State Economic Development offices, the internet or word of mouth. ITA provides a standard set of services to assist clients with identifying potential overseas partners, establishing meeting programs with appropriate overseas business contacts and providing due diligence reports on potential overseas business partners. ITA also provides other global trade related services considered to be of a “customized nature” because they do not fit into the standard set of services but are driven by unique business needs of individual clients.

The dissemination of international market information and potential business opportunities for U.S. companies interested and actively exporting and conducting business globally are critical components of the ITA's global trade assistance programs and services. U.S. companies are able to conveniently access and indicate their interest in services by completing the appropriate forms through various methods, including via a website (e.g. trade.gov), web-based survey or form links, or paper-based forms.

Affected Public: Business or other for-profit organizations; Not-for-profit institutions; State, Local, or Tribal government.

Frequency: On occasion.

Respondent's Obligation: Voluntary.

Legal Authority: Public Law 15 U.S.C. et seq and 15 U.S.C. 171 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0625-0143.

Sheleen Dumas,
Departmental PRA Compliance Officer, Office of the Under Secretary for Economic Affairs, Commerce Department.

[FR Doc. 2025-18765 Filed 9-25-25; 8:45 am]

BILLING CODE 3510-25-P